DEPARTMENT OF COMMERCE

International Trade Administration

[A-570-890]

Wooden Bedroom Furniture From the People's Republic of China: Notice of Court Decision Not in Harmony With Final Results of Administrative Review and Notice of Amended Final Results of Administrative Review Pursuant to Court Decision

AGENCY: Enforcement and Compliance, International Trade Administration, Department of Commerce.

SUMMARY: On January 14, 2015, the United States Court of International Trade (“CIT”) issued its final judgment in Dongguan Sunrise Furniture Co. Ltd., et al. v. United States Consol. Court No. 10-00254 ¹ and sustained the Department of Commerce's (“the Department”) final results of redetermination pursuant to the fourth remand of the 2008 administrative review of the antidumping duty order on wooden bedroom furniture from the People's Republic of China.² Consistent with the decision of the United States Court of Appeals for the Federal Circuit (“CAFC”) in Timken Co. v. United States, 893 F.2d 337 (Fed. Cir. 1990) (“Timken”), as clarified by Diamond Sawblades Mfrs. Coalition v. United States, 626 F.3d 1374 (Fed. Cir. 2010) (“Diamond Sawblades”), the Department is notifying the public that the final judgment in this case is not in harmony with the Department's Final Results ³ and is amending its Final Results with regard to the calculation of the weighted average margin applied to the mandatory respondent, Dongguan Sunrise Furniture Co., Ltd., Taicang Sunrise Wood Industry Co., Ltd., Taicang Fairmont Designs Furniture Co., Ltd., and Meizhou Sunrise Furniture Co., Ltd. (collectively “Fairmont”) and two separate rate respondents: Langfang Tiancheng Furniture Co., Ltd. and Longrange Furniture Co., Ltd.

¹ See Dongguan Sunrise Furniture Co. v. United States, Consol. Court No. 10-00254, Slip Op. 15-03 (January 14, 2015) (“Dongguan Sunrise V”).

² See Final Results of Fourth Redetermination Pursuant to Court Order, Court No. 10-00254, dated October 8, 2014 (“Remand Results IV”).

³ See Wooden Bedroom Furniture From the People's Republic of China: Final Results and Final Rescission in Part, 75 FR 50992 (August 18, 2010) (“Final Results”).

DATES: Effective Date: January 24, 2015.

FOR FURTHER INFORMATION CONTACT: Jeff Pedersen, AD/CVD Operations, Office IV, Enforcement and Compliance—International Trade Administration, U.S. Department of Commerce, 14th Street and Constitution Avenue NW., Washington, DC 20230; telephone (202) 482-2769.

SUPPLEMENTARY INFORMATION:

Background

On October 8, 2014, the Department filed its Remand Results IV, in which the Department assigned partial adverse facts available rates to sales of four product types of wooden bedroom furniture that Fairmont failed to report to the Department, revised the weighted-average dumping margin calculated for Fairmont, and assigned this rate as a separate rate to Langfang Tiancheng Furniture Co., Ltd. and Longrange Furniture Co., Ltd. On January 14, 2015, the Court sustained the Department's Remand Results IV.⁴

⁴ See Dongguan Sunrise V.

Timken Notice

In its decision in Timken, 893 F.2d at 341, as clarified by Diamond Sawblades, the CAFC has held that, pursuant to section 516A(e) of the Tariff Act of 1930, as amended (“the Act”), the Department must publish a notice of a court decision that is not “in harmony” with a Department determination and must suspend liquidation of entries pending a “conclusive” court decision. The CIT's January 14, 2015 judgment sustaining the rates that the Department applied as partial facts available constitutes a final decision of that court that is not in harmony with the Department's Final Results. This notice is published in fulfillment of the publication requirements of Timken. Accordingly, the Department will continue the suspension of liquidation of the subject merchandise pending the expiration of the period of appeal, or if appealed, pending a final and conclusive court decision.

Amended Final Results

Because there is now a final court decision with respect to this case, the Department is amending its Final Results with respect to Fairmont's weighted-average dumping margin for the period January 1, 2008 through December 31, 2008. In addition, the Department is amending its Final Results with respect to Langfang Tiancheng Furniture Co., Ltd. and Longrange Furniture Co., Ltd., the separate rate respondents included in this final court decision. The remaining weighted-average dumping margins from the Final Results remain unchanged.

Manufacturer/ exporter | Weighted- average dumping margin (percent)
Dongguan Sunrise Furniture Co., Ltd., Taicang Sunrise | 41.30
Wood Industry Co., Ltd., Taicang Fairmont Designs |
Furniture Co., Ltd., and Meizhou Sunrise Furniture Co., Ltd. |
Langfang Tiancheng Furniture Co., Ltd. | 41.30
Longrange Furniture Co., Ltd. | 41.30

In the event the CIT's ruling is not appealed or, if appealed, upheld by the CAFC, the Department will instruct CBP to assess antidumping duties on entries during the POR of subject merchandise from the manufacturers/exporters identified above based on the revised assessment rates calculated by the Department.

This notice is issued and published in accordance with sections 516A(e)(1), 751(a)(1), and 777(i)(1) of the Act.

Dated: January 22, 2015.
Paul Piquado,
Assistant Secretary for Enforcement and Compliance.

[FR Doc. 2015-01728 Filed 1-28-15; 8:45 am]

BILLING CODE 3510-DS-P